Title 3—

The President

Proclamation 10483 of October 31, 2022

Critical Infrastructure Security and Resilience Month, 2022

By the President of the United States of America

A Proclamation

This month, we recommit to improving the resilience of our Nation's critical infrastructure so it can withstand all hazards—natural and manmade. By building better roads, bridges, and ports; fortifying our information technology and cybersecurity across sectors, including election systems; safeguarding our food and water sources; moving to clean energy; and strengthening all other critical infrastructure sectors, we will lay the foundation for long-term security and prosperity.

When our critical infrastructure shows signs of wear, everyday Americans pay the price. When powerful storms and forest fires—made more frequent and ferocious by climate change—shut down energy grids, families can lose power for weeks. When unsecure networks are hacked, critical services can go offline, and businesses can suffer huge losses. When bridges collapse and first responders must travel further to reach disaster sites, Americans can die. Crumbling infrastructure around the world affects us at home as well: Extreme weather, cyberattacks, and other disasters have ripple effects, threatening global stability and disrupting supply chains everywhere.

That is why my Administration is reinforcing America's critical infrastructure and supporting our international partners as they do the same. Last year, I signed the Bipartisan Infrastructure Law to make a once-in-a-generation investment in resilience and build a better America—modernizing our roads, bridges, and ports; delivering clean water and high-speed internet to our communities; and helping to eliminate the use of lead pipes in this country, all while creating a new generation of good-paying jobs. This year, I signed the CHIPS and Science Act into law, securing historic funding for research and development and to build a resilient supply chain for semiconductors here in America. At the same time, we are shielding our entire country against—and actively countering—malicious cyber activity, and establishing clear international rules of the road as they relate to cyberspace. Our Federal agencies are working more closely with the private sector—which owns and operates most of America's critical infrastructure—to defend against cyberattacks. I have reinvigorated the National Infrastructure Advisory Council to advise on how to reduce physical and cyber risks and improve the security and resilience of our Nation's critical infrastructure sectors.

At the same time, we are committed to protecting our election systems. The right to vote and to have that vote counted is the foundation of our democracy and our Nation's stability, and I am determined to protect our election workers and defend our free and fair elections from cyberattacks, threats of violence, and disinformation campaigns.

Securing our critical infrastructure also means tackling the climate crisis—an existential threat to our health care, food systems, water sources, and energy grid. That is why I was proud to sign the Inflation Reduction Act, the largest investment ever to combat climate change while strengthening our energy sector, and to invoke the Defense Production Act to accelerate the manufacturing of critical clean energy technologies here at home. By ushering in a clean energy future, enhancing wildfire preparedness, and creating thousands of jobs, our actions will minimize the risk of natural disasters and save lives.

Our efforts to bolster critical infrastructure extend beyond our own borders as well. Through programs like the Partnership for Global Infrastructure and Investment, the Digital Invest Program from the United States Agency for International Development, and the President's Emergency Plan for Adaptation and Resilience, the United States is helping pay for game-changing infrastructure projects in developing countries, strengthening the global economy and international supply chains. We are also working with allies and partners to enhance the resilience of critical infrastructure around the world, including trusted telecommunications providers, supply chains, and energy networks, and to defend and respond to threats from state and nonstate actors.

The choices we make today to strengthen our critical infrastructure are going to affect our country and our world for several generations to come. This year, as we observe the 50th anniversary of the Clean Water Act and the Federal Government's landmark actions to protect and restore our waterways—let us rededicate ourselves to building a stronger, more resilient Nation. With bold action, smart investments, and a will to win the competition for the future, anything is possible.

NOW, THEREFORE, I, JOSEPH R. BIDEN JR., President of the United States of America, by virtue of the authority vested in me by the Constitution and the laws of the United States, do hereby proclaim November 2022 as Critical Infrastructure Security and Resilience Month. I call upon the people of the United States to recognize the importance of protecting our Nation's infrastructure and to observe this month with appropriate measures to enhance our national security and resilience.

IN WITNESS WHEREOF, I have hereunto set my hand this thirty-first day of October, in the year of our Lord two thousand twenty-two, and of the Independence of the United States of America the two hundred and forty-seventh.

[FR Doc. 2022-24148

Filed 11-2-22; 11:15 am]

Billing code 3395-F3-P